DEPARTMENT OF HOMELAND SECURITY

Federal Emergency Management Agency

[Docket ID FEMA-2013-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of April 16, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Administrator for Mitigation has resolved any appeals resulting from this notification.

This final notice is issued in accordance with section 110 of the Flood Disaster Protection Act of 1973, 42 U.S.C. 4104, and 44 CFR Part 67. FEMA has developed criteria for floodplain management in floodprone areas in accordance with 44 CFR Part 60.

Interested lessees and owners of real property are encouraged to review the new or revised FIRM and FIS report available at the address cited below for each community or online through the FEMA Map Service Center at www.msc.fema.gov.

The flood hazard determinations are made final in the watersheds and/or communities listed in the table below.

Community | Community map repository address
Clark County, Indiana, and Incorporated Areas
Docket No.: FEMA-B-1284
City of Charlestown | City Hall, 304 Main Cross Street, Charlestown, IN 47111.
City of Jeffersonville | City Hall, 500 Quartermaster Court, Jeffersonville, IN 47130.
Town of Borden | Town Hall, 129 West Street, Borden, IN 47106.
Town of Clarksville | Town Hall, 2000 Broadway Street, Clarksville, IN 47129.
Town of Sellersburg | Public Works Building, 103 South New Albany Avenue, Sellersburg, IN 47172.
Town of Utica | Town Hall, 107 North Fourth Street, Utica, IN 47130.
Unincorporated Areas of Clark County | Clark County Government Building, 501 East Court Avenue, Room 416, Jeffersonville, IN 47130.
Floyd County, Indiana, and Incorporated Areas
Docket No.: FEMA-B-1283
City of New Albany | City Plan Commission, City-County Building, 311 Hauss Square, Room 329, New Albany, IN 47150.
Unincorporated Areas of Floyd County | Pineview Government Center, 2524 Corydon Pike, Suite 203, New Albany, IN 47150.
Switzerland County, Indiana, and Incorporated Areas
Docket No.: FEMA-B-1292
Town of Patriot | Switzerland County Courthouse, 212 West Main Street, Vevay, IN 47043.
Town of Vevay | Switzerland County Courthouse, 212 West Main Street, Vevay, IN 47043.
Unincorporated Areas of Switzerland County | Switzerland County Courthouse, 212 West Main Street, Vevay, IN 47043.
Muscatine County, Iowa, and Incorporated Areas
Docket No.: FEMA-B-1299
City of Fruitland | City Hall, 104 Sand Run Road, Fruitland, IA 52749.
City of Muscatine | City Hall, 215 Sycamore Street, Muscatine, IA 52761.
Unincorporated Areas of Muscatine County | Muscatine County Building, 3610 Park Avenue West, Muscatine, IA 52761.
Washington County, Ohio, and Incorporated Areas
Docket No.: FEMA-B-1292
City of Marietta | Engineering Department, 304 Putnam Street, Marietta, OH 45750.
Unincorporated Areas of Washington County | Washington County Building Department, 217 Putnam Street, Marietta, OH 45750.
Lee County, Texas, and Incorporated Areas
Docket No.: FEMA-B-1259
City of Giddings | City Hall, 118 East Richmond Street, Giddings, TX 78942.
Town of Lexington | City Hall, 604 Wheatley Street, Lexington, TX 78947.
Unincorporated areas of Lee County | Lee County Courthouse, 200 South Main Street, Room 107, Giddings, TX 78942.
Chippewa County, Wisconsin, and Incorporated Areas
Docket No.: FEMA-B-1299
City of Eau Claire | City Hall, 203 South Farwell Street, Third Floor, Eau Claire, WI 54701.
Unincorporated Areas of Chippewa County | Chippewa County Courthouse, 711 North Bridge Street, Chippewa Falls, WI 54729.
Eau Claire County, Wisconsin, and Incorporated Areas
Docket No.: FEMA-B-1299
City of Eau Claire | City Hall, 203 South Farwell Street, Third Floor, Eau Claire, WI 54701.
Unincorporated Areas of Eau Claire County | Eau Claire County Courthouse, 721 Oxford Avenue, Room 1510, Eau Claire, WI 54703.

(Catalog of Federal Domestic Assistance No. 97.022, “Flood Insurance.”)

Dated: December 18, 2013.
Roy E. Wright,
Deputy Associate Administrator for Mitigation, Department of Homeland Security, Federal Emergency Management Agency.

[FR Doc. 2014-00330 Filed 1-10-14; 8:45 am]

BILLING CODE 9110-12-P